DEPARTMENT OF JUSTICE

[CPCLO Order No. 003-2011]

Privacy Act of 1974; System of Records

AGENCY: Office of Professional Responsibility, United States Department of Justice.

ACTION: Modification of a system of records.

SUMMARY: Pursuant to the Privacy Act of 1974 (5 U.S.C. 552a), the United States Department of Justice (“Department” or “DOJ”), Office of Professional Responsibility (“OPR”), proposes to amend the system of records entitled “Office of Professional Responsibility Record Index,” JUSTICE/OPR-001, last published in the Federal Register on December 10, 1998 (63 FR 68299). The JUSTICE-OPR-001 system is maintained to provide for the resolution of allegations of misconduct made against DOJ employees and to advise complainants of the status of investigations and the results. Pursuant to 28 CFR 0.39a(9), the OPR Counsel also reviews proposals submitted by DOJ employees, in the course of their official duties, to refer to the appropriate licensing authorities apparent professional misconduct by attorneys outside DOJ, and makes such referrals where warranted. OPR is revising the categories of individuals covered by this system to include non-DOJ attorneys who are the subjects of allegations of professional misconduct which have been referred to OPR and about whom information is maintained in order to fulfill OPR's obligations under 28 CFR 0.39a(9), as well as witnesses and other individuals referenced in OPR matters. (The corresponding records have been referenced throughout the system notice where applicable.) In addition, OPR is also modifying the system by adding new routine uses and by revising several existing routine uses to reflect the current model language used by the Department.

DATES: In accordance with 5 U.S.C. 552a(e)(4) and (11), the public is given a 30-day period in which to comment. Therefore, please submit any comments by November 28, 2011.

ADDRESSES: The public, the Office of Management and Budget (OMB), and Congress are invited to submit any comments to the Department of Justice, ATTN: Privacy Analyst, Office of Privacy and Civil Liberties, Department of Justice, National Place Building, 1331 Pennsylvania Avenue, NW., Suite 1000, Washington, DC 20530-001, or by facsimile at (202) 307-0693.

FOR FURTHER INFORMATION CONTACT: Robin C. Ashton, Counsel, Office of Professional Responsibility, Department of Justice, 950 Pennsylvania Avenue, NW., Room 3525, Washington, DC 20530.

In accordance with 5 U.S.C. 552a(r), the Department has provided a report to OMB and Congress on the new system of records.

Dated: October 6, 2011.
Nancy C. Libin,
Chief Privacy and Civil Liberties Officer, Department of Justice.

JUSTICE/OPR-001

SYSTEM NAME:

Office of Professional Responsibility Record Index

SECURITY CLASSIFICATION:

Unclassified Information and Classified Information.

SYSTEM LOCATION:

United States Department of Justice, 950 Pennsylvania Ave., NW., Washington, DC 20530-0001

CATEGORIES OF INDIVIDUALS COVERED BY THE SYSTEM:

(1) DOJ employees who are the subjects of complaints directed to, or inquiries or investigations conducted by, OPR; (2) individuals (complainants) who write to OPR; (3) individuals (complainants) who write to the Attorney General and other officials of the Department and whose correspondence is referred to OPR; (4) employees of agencies of the federal government, other than DOJ, about whom information indicating possible criminal or administrative misconduct has been developed during the course of routine investigation by components of DOJ, when such information is furnished to OPR for referral—if warranted—to an appropriate investigative component of DOJ, or another government agency; (5) non-DOJ attorneys who are the subjects of allegations of professional misconduct which have been referred to OPR by DOJ employees during the course of their official duties; (6) witnesses; and (7) other individuals referenced in cases or matters of concern to OPR.

CATEGORIES OF RECORDS IN THE SYSTEM:

This system of records consists of complaints filed against DOJ employees, the results of investigations into those complaints, and actions taken after completion of the investigations. This system also includes all records developed pursuant to special assignments given to OPR by the Attorney General or the Deputy Attorney General as well as records containing information indicating possible misconduct by employees of the federal government other than DOJ, which have been furnished to OPR for referral, if warranted, to the appropriate investigative authority. This system also includes records concerning non-DOJ attorneys who are the subjects of allegations of professional misconduct which have been referred to OPR by DOJ-employees during the course of their official duties.

AUTHORITY FOR MAINTENANCE OF THE SYSTEM:

44 U.S.C. 3101 et seq., 28 CFR 0.39 et seq., and Attorney General Order No. 833-79.

PURPOSES:

Information in this system is maintained to provide for the resolution of allegations of professional misconduct made against DOJ employees and to advise complainants of the status of investigations and the results. Information in this system is also maintained for purposes of making a determination concerning the possible referral of certain allegations of professional misconduct made against non-DOJ attorneys to the appropriate licensing authorities.

ROUTINE USES OF RECORDS MAINTAINED IN THE SYSTEM, INCLUDING CATEGORIES OF USERS AND THE PURPOSES OF SUCH USES:

Information may be disclosed from this system as follows:

(1) Where a record, either alone or in conjunction with other information, indicates a violation or potential violation of law—criminal, civil, or regulatory in nature—the relevant records may be referred to the appropriate federal, state, local, territorial, tribal, or foreign law enforcement authority, or other appropriate entity charged with the responsibility for investigating or prosecuting such violation or charged with enforcing or implementing such law.

(2) To any person or entity that OPR has reason to believe possesses information regarding a matter within the jurisdiction of OPR, to the extent deemed to be necessary by OPR, in order to elicit such information or cooperation from the recipient for use in the performance of an authorized activity.

(3) In an appropriate proceeding before a court, grand jury, or administrative or adjudicative body, when the Department of Justice determines that the records are arguably relevant to the proceeding; or in an appropriate proceeding before an administrative or adjudicative body when the adjudicator determines the records to be relevant to the proceeding.

(4) To appropriate officials and employees of a federal agency or entity that requires information relevant to a decision concerning the hiring, appointment, or retention of an employee; the issuance, renewal, suspension, or revocation of a security clearance; the execution of a security or suitability investigation; the letting of a contract; or the issuance of a grant or benefit.

(5) A record may be disclosed to designated officers and employees of state, local, territorial, or tribal law enforcement or detention agencies in connection with the hiring or continued employment of an employee or contractor, where the employee or contractor would occupy or occupies a position of public trust as a law enforcement officer or detention officer having direct contact with the public or with prisoners or detainees, to the extent that the information is relevant and necessary to the recipient agency's decision.

(6) To the news media and the public, including disclosures pursuant to 28 CFR 50.2, unless it is determined that release of the specific information in the context of a particular case would constitute an unwarranted invasion of personal privacy.

(7) To a Member of Congress or staff acting upon the Member's behalf when the Member or staff requests the information on behalf of, and at the request of, the individual who is the subject of the record.

(8) To the National Archives and Records Administration for purposes of records management inspections conducted under the authority of 44 U.S.C. 2904 and 2906.

(9) To complainants to the extent necessary to provide such persons with information and explanations concerning the progress and/or results of the investigation or case arising from the matters of which they complained.

(10) To professional organizations or associations with which individuals covered by this system of records may be affiliated, such as state bar disciplinary authorities, to meet their responsibilities in connection with the administration and maintenance of standards of conduct and discipline.

(11) To contractors, grantees, experts, consultants, students, and others performing or working on a contract, service, grant, cooperative agreement, or other assignment for the federal government, when necessary to accomplish an agency function related to this system of records.

(12) To a former employee of the Department of Justice for purposes of: responding to an official inquiry by a federal, state, or local government entity or professional licensing authority, in accordance with applicable Department regulations; or facilitating communications with a former employee that may be necessary for personnel-related or other official purposes where the Department requires information and/or consultation assistance from the former employee regarding a matter within that person's former area of responsibility.

(13) To a member of the judicial branch of federal government in response to a written request where disclosure is relevant to the authorized function of the recipient judicial office or court system.

(14) To the subject of an investigation or inquiry conducted by OPR to further the investigation or inquiry, or to give notice of the status or outcome of the investigation or inquiry.

(15) To an actual or potential party to litigation or the party's authorized representative for the purpose of negotiation or discussion of such matters as settlement, plea bargaining, or in informal discovery proceedings.

(16) To federal, state, local, territorial, tribal, foreign, or international licensing agencies or associations which require information concerning the suitability or eligibility of an individual for a license or permit.

(17) To such recipients and under such circumstances and procedures as are mandated by federal statute or treaty.

(18) To appropriate agencies, entities, and persons when (1) it is suspected or confirmed that the security or confidentiality of information in the system of records has been compromised; (2) the Department has determined that as a result of the suspected or confirmed compromise there is a risk of harm to economic or property interests, identity theft or fraud, or harm to the security or integrity of this system or other systems or programs (whether maintained by the Department or another agency or entity) that rely upon the compromised information; and (3) the disclosure made to such agencies, entities, and persons is reasonably necessary to assist in connection with the Department's efforts to respond to the suspected or confirmed compromise and prevent, minimize, or remedy such harm.

DISCLOSURE TO CONSUMER REPORTING AGENCIES:

None.

POLICIES AND PRACTICES FOR STORING, RETRIEVING, ACCESSING, RETAINING, AND DISPOSING OF RECORDS IN THE SYSTEMS:

STORAGE:

Information is stored manually in file jackets and electronically in office automation equipment.

RETRIEVABILITY:

Information is retrieved by individual names and by unique file numbers assigned to each case. In most instances, information is retrieved by the name of the employee or non-DOJ attorney who is the subject of the complaint, and in some instances by the name of the complainant. Information may also be retrieved by the name of other individuals referenced in the case or matter.

SAFEGUARDS:

The information is stored in safes, locked filing cabinets, and office automation equipment in a limited access area and is maintained according to applicable departmental security regulations.

RETENTION AND DISPOSAL:

Records in the system are retained and disposed of in accordance with NARA Job #NCI-60-77-6.

SYSTEM MANAGER(S) AND ADDRESS:

Counsel, Office of Professional Responsibility, Department of Justice, 950 Pennsylvania Avenue, NW., Room 3525, Washington, DC 20530.

NOTIFICATION PROCEDURE:

Address any inquiries to the System Manager listed above.

RECORD ACCESS PROCEDURE:

The major part of this system is exempted from this requirement under 5 U.S.C. 552a(j)(2), (k)(1), (k)(2), and/or (k)(5). To the extent that information in this system of records is not subject to exemption, it is subject to access and contest. A determination as to exemption shall be made at the time a request for access is received. A request for access to records contained in this system shall be made in writing, with the envelope and the letter clearly marked “Privacy Access Request.” The request shall include the full name of the individual involved, his or her current address, date and place of birth, notarized signature, together with any other identifying information which may be of assistance in locating the record. The requester will also provide a return address for transmitting the information. Access requests will be directed to the System Manager listed above.

CONTESTING RECORD PROCEDURES:

Individuals desiring to contest or amend information maintained in the system should direct their request to the System Manager listed above, stating clearly and concisely what information is being contested, the reasons for contesting it, and the proposed amendment to the information sought.

RECORD SOURCE CATEGORIES:

Department officers and employees, and other federal, state, local and foreign law enforcement and non-law enforcement agencies, private persons, witnesses, and informants.

SYSTEMS EXEMPTED FROM CERTAIN PROVISIONS OF THE ACT:

The Attorney General has exempted this system from subsections (c)(3) and (4), (d), (e)(1), (2) and (3), (e)(4)(G) and (H), (e)(5) and (8), (f), and (g) of the Privacy Act pursuant to 5 U.S.C. 552a (j)(2), (k)(1), (k)(2), and (k)(5). This exemption applies only to the extent that information in the system is subject to exemption pursuant to 5 U.S.C. 552a (j)(2), (k)(1), (k)(2), or (k)(5). Rules have been promulgated in accordance with the requirements of 5 U.S.C. 553 (b), (c), and (e), and have been published in the Federal Register.

[FR Doc. 2011-27758 Filed 10-26-11; 8:45 am]

BILLING CODE 4410-28-P